DEPARTMENT OF ENERGY

Federal Energy Regulatory Commission

[Project/Docket No. CP23-214-000]

Columbia Gas Transmission, L.L.C.; Notice of Waiver Period for Water Quality Certification Application

On June 15, 2023, Columbia Gas Transmission, L.L.C. submitted to the Federal Energy Regulatory Commission (Commission) a copy of its application for a Clean Water Act section 401(a)(1) water quality certification filed with New York Department of Environmental Conservation (NYSDEC), in conjunction with the above captioned project. Pursuant to 40 CFR 121.6 and section 157.22 of the Commission's regulations,¹ we hereby notify the New York Department of Environmental Conservation of the following:

¹ 18 CFR 157.22.

—Date of Receipt of the Certification Request: June 15, 2023

—Reasonable Period of Time to Act on the Certification Request: June 15, 2024

If the New York Department of Environmental Conservation fails or refuses to act on the water quality certification request on or before the above date, then the agency certifying authority is deemed waived pursuant to section 401(a)(1) of the Clean Water Act, 33 U.S.C. 1341(a)(1).

Dated: August 3, 2023.
Debbie-Anne A. Reese,
Deputy Secretary.

[FR Doc. 2023-17066 Filed 8-8-23; 8:45 am]

BILLING CODE 6717-01-P